DEPARTMENT OF HEALTH AND HUMAN SERVICES

Centers for Disease Control and Prevention

National Center for Health Statistics; ICD-9-CM E Code Revisions

AGENCY: National Center for Health Statistics, Centers for Disease Control and Prevention (CDC), HHS.

ACTION: Notice.

SUMMARY: The National Center for Health Statistics has approved the following expansion to the External Cause Codes in the International Classification of Diseases, Ninth-Revision, Clinical Modification (ICD-9-CM). These ICD-9-CM E-Code revisions will become effective October 1, 2002. The official government version of the ICD-9-CM that will include all of the code revisions can be found on the ICD-9-CM CD-ROM available through the Government Printing Office. Guidelines for the use of the new E-codes will appear on the CD-ROM and on the NCHS website http://www.cdc.gov/nchs/icd9.htm.

E885.0 Fall from (nonmotorized) scooter

E922.5 Accidental injury caused by paintball gun

E955.7 Suicide/self-inflicted injury caused by paintball gun

E979.0 Terrorism involving explosion of marine weapons

E979.1 Terrorism involving destruction of aircraft

E979.2 Terrorism involving other explosions and fragments

E979.3 Terrorism involving fires, conflagration and hot substances

E979.4 Terrorism involving firearms

E979.5 Terrorism involving nuclear weapons

E979.6 Terrorism involving biological weapons

E979.7 Terrorism involving chemical weapons

E979.8 Terrorism involving other means

E979.9 Terrorism, secondary effects

E985.7 Injury caused by paintball gun, undetermined whether accidentally or purposely inflicted

E999.0 Late effect of injury due to war operations

E999.1 Late effect of injury due to terrorism

FOR FURTHER INFORMATION CONTACT: Donna Pickett, R.H.I.A., Co-chair, ICD-9-CM Coordination and Maintenance Committee, National Center for Health Statistics, CDC, telephone (301)-458-4200.

The Director, Management Analysis and Services Office, has been delegated the authority to sign Federal Register notices pertaining to announcements of meetings and other committee management activities, for both the Centers for Disease Control and Prevention and the Agency for Toxic Substances and Disease Registry.

Dated: May 2, 2002.
Alvin Hall,
Acting Director, Management Analysis and Services Office, Centers for Disease Control and Prevention.

[FR Doc. 02-11358 Filed 5-7-02; 8:45 am]

BILLING CODE 4160-18-P